DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of September 17 through September 21, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,855; Colorado Custom Hardware, Chadron Shop, Chadron, NE: July 17, 2006.

TA-W-61,891; Duerr Tool and Die Company, Inc., Union, NJ: July 25, 2006.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,895; GF Office Furniture, LTD, Gallatin, TN: July 27, 2006.

TA-W-61,970; Belkin International, Inc., Compton, CA: August 9, 2006.

TA-W-61,836; Hutchinson FTS, Inc., On-Site Leased Workers of Manpower, Quincy, MI: July 17, 2006.

TA-W-61,945; Delphi Corporation, Automotive Holdings Group, Chassis Business Support Functions, Kettering, OH: August 3, 2006.

TA-W-61,965; Stern Manufacturing, Inc., Staples, MN: August 8, 2006.

TA-W-61,996; Standard Textiles, Augusta, GA: August 15, 2006.

TA-W-62,002; Broward Casting Foundry, Ft. Lauderdale, FL: August 15, 2006.

TA-W-62,030; Pechiney Plastics An Alcan, City of Commerce, CA: August 10, 2006.

TA-W-62,079; Penn Specialty Chemical, Memphis, TN: August 30, 2006.

TA-W-62,124; Milan Screw Products, Inc., On-Site Leased Workers of Masterson Personnel, Milan, MI: September 1, 2006.

TA-W-61,951; DI-Mar Industries, Inc., Formerly Know as Northeast Manufacturing, West New York, NJ: August 7, 2006.

The following certifications have been issued. The requirements of Section 222(a)(2)(B) (shift in production) and Section 246(a)(3)(A)(ii) of the Trade Act have been met.

TA-W-61,788; TI Automotive, Tool Plant, Brake and Fuel Division, Chesterfield, MI: July 2, 2006.

TA-W-61,804; J.T. Posey Company, Arcadia, CA: June 28, 2006.

TA-W-61,894; Fry's Metals, Inc., d/b/a Cookson Electronics, On-Site Workers From Advantage Resource Group, Altoona, PA: July 26, 2006.

TA-W-62,035; Kadant Web Systems, Auburn, MA: August 22, 2006.

TA-W-62,036; Clover Technologies Group, LLC, Leased Workers of ESSI Staffing Services and Premier, Mesa, AZ: August 20, 2006.

TA-W-62,065; Keykert USA, Inc., Wixom, MI: August 28, 2006.

TA-W-62,076; Ametek, Inc., Instrumentation and Specialty Controls Division, West Chicago, IL: April 14, 2007.

TA-W-62,088; Friedrich Air Conditioning, A Subsidiary of U.S.N.R., San Antonio, TX: September 5, 2006.

TA-W-62,099; CarboMedics, Inc., Austin, TX: September 20, 2007.

TA-W-62,104; Imation Corporation, Magnetic Data Tape Cartridges, Weatherford, OK: September 5, 2006.

TA-W-62,104A; Imation Corporation, Magnetic Data Tape Cartridges, Weatherford, OK: September 5, 2006.

TA-W-62,106; Laird Technologies, Delaware Water Gap, PA: September 4, 2006.

TA-W-62,139; Springfield LLC, Jericho, NY: September 5, 2006.

TA-W-62,139A; Springfield LLC, Plano, NY: September 5, 2006.

TA-W-62,043; Synergis Technologies Group Corp., On-Site Leased Workers—Forge Industrial Staffing & All Performance Staffing, Grand Rapids, MI: August 24, 2006.

TA-W-62,121; Burly Bear, Inc. d/b/a ProLine Billiards, Valdese, NC: August 31, 2006.

TA-W-62,136; AGI Instore, Leased Workers of Coxe Personnel, Forest City, NC: September 11, 2006.

The following certifications have been issued. The requirements of Section 222(b) (supplier to a firm whose workers are certified eligible to apply for TAA) and Section 246(a)(3)(A)(ii) of the Trade Act have been met.

TA-W-61,947; Charlevoix Manufacturing Co., Division of Hater Industries, Charlevoix, MI: August 6, 2006.

TA-W-61,967; The G and C Foundry Company Ltd., Sandusky, OH: August 9, 2006.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-61,855; Colorado Custom Hardware, Chadron Shop, Chadron, NE.

The Department has determined that criterion (2) of Section 246 has not been met. Workers at the firm possess skills that are easily transferable.

TA-W-61,891; Duerr Tool and Die Company, Inc., Union, NJ.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,905; The Boeing Company, Commercial Aircraft Components, Oak Ridge, TN.

TA-W-61,905A; The Boeing Company, Centrifuge Machine Components, Oak Ridge, TN.

TA-W-61,960; Solutia, Inc., Sauget, IL.

TA-W-62,096; Galey and Lord Industries, LLC, Flint Plant, Gastonia, NC.

TA-W-61,970A; Belkin International, Inc., Compton, CA.

The investigation revealed that criteria (a)(2)(A)(I.B.) (Sales or production, or both, did not decline) and (a)(2)(B)(II.B.) (shift in production to a foreign country) have not been met.

TA-W-62,010; Cargill, Inc., Soy Protein Isolate Division, Sidney, OH.

The investigation revealed that criteria (a)(2)(A)(I.C.) (increased imports) and (a)(2)(B)(II.B.) (shift in production to a foreign country) have not been met.

TA-W-61,867; Non-Metallic Components, Inc., Rib Lake, WI.

TA-W-61,881; Southern Weaving Company, Tarboro Plant 5, Tarboro, NC.

TA-W-61,925; Ansell Protective Products, Tarboro, NC.

TA-W-61,938; Superior Design and Engineering, Sterling Heights, MI.

TA-W-61,987; The Longaberger Company, Basket Department, Frazeysburg, OH.

The workers' firm does not produce an article as required for certification under Section 222 of the Trade Act of 1974.

TA-W-62,090; ABN AMRO Services Co., Inc., A Wholly Owned Subsidiary of Lasalle Bank Corp., Chicago, IL.

TA-W-61,880; LM Services, LLC, A Subsidiary of S. Schwab Co., Corporate Office, Cumberland, MD.

TA-W-61,880A; LM Services, LLC, A Subsidiary of S. Schweb Co., Distribution Center, Cumberland, MD.

TA-W-61,986; IBM Corporation, Integrated Technology Delivery Division, On-Site at Case New Holland, Racine, WI.

TA-W-61,993; Dell USA LP, Roseburg Call Center, Roseburg, OR.

TA-W-62,054; MJM Jewelry Corporation, Brooklyn, NY.

TA-W-62,056; Glaxo Smith Kline, Shared Financial Services Department, Philadelphia, PA.

TA-W-62,118; Southern Council of Industrial Workers, Jackson, MS.

TA-W-62,126; First American Title Insurance Company, Pittsburgh, PA.

The investigation revealed that criteria of Section 222(b)(2) has not been met. The workers' firm (or subdivision) is not a supplier to or a downstream producer for a firm whose workers were certified eligible to apply for TAA.

None.

I hereby certify that the aforementioned determinations were issued during the period of September 17 through September 21, 2007. Copies of these determinations are available for inspection in Room C-5311, U.S. Department of Labor, 200 Constitution Avenue, NW., Washington, DC 20210 during normal business hours or will be mailed to persons who write to the above address.

Dated: September 27, 2007.
Ralph DiBattista,
Director, Division of Trade Adjustment Assistance.

[FR Doc. E7-19479 Filed 10-2-07; 8:45 am]

BILLING CODE 4510-FN-P